DEPARTMENT OF TRANSPORTATION

Federal Aviation Administration

14 CFR Part 39

[Docket No. FAA-2005-21470; Directorate Identifier 2003-NM-45-AD]

RIN 2120-AA64

Airworthiness Directives; McDonnell Douglas Model DC-10-10, DC-10-10F, DC-10-15, DC-10-30 and DC-10-30F (KC-10A and KDC-10) Airplanes; Model DC-10-40 and DC-10-40F Airplanes; and Model MD-11 and MD-11F Airplanes

AGENCY: Federal Aviation Administration (FAA), Department of Transportation (DOT).

ACTION: Supplemental notice of proposed rulemaking (NPRM); reopening of comment period.

SUMMARY: The FAA is revising an earlier proposed airworthiness directive (AD) for certain McDonnell Douglas Model DC-10-10, DC-10-10F, DC-10-15, DC-10-30 and DC-10-30F (KC-10A and KDC-10) airplanes; Model DC-10-40 and DC-10-40F airplanes; and Model MD-11 and MD-11F airplanes. The original NPRM would have required, for certain airplanes, modifying the thrust reverser command wiring of the number 2 engine. For certain other airplanes, the original NPRM would have required modifying the thrust reverser system wiring from the flight compartment to engines 1, 2, and 3 thrust reversers. The original NPRM also would have required installing thrust reverser locking systems on certain airplanes. The original NPRM resulted from a determination that the thrust reverser systems on these McDonnell Douglas airplanes do not adequately preclude unwanted deployment of a thrust reverser. This action revises the original NPRM by revising, for certain airplanes, the requirements for the modification of the thrust reverser system wiring from the flight compartment to engines 1, 2, and 3 thrust reversers. We are proposing this supplemental NPRM to prevent an unwanted deployment of a thrust reverser during flight, which could result in reduced controllability of the airplane.

DATES: We must receive comments on this supplemental NPRM by August 17, 2007.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue SE., Washington, DC 20590.

• Fax: (202) 493-2251.

• Hand Delivery: Room W12-140 on the ground floor of the West Building, 1200 New Jersey Avenue SE., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this proposed AD.

FOR FURTHER INFORMATION CONTACT: Philip C. Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Comments Invited

We invite you to submit any relevant written data, views, or arguments regarding this supplemental NPRM. Send your comments to an address listed in the ADDRESSES section. Include the docket number “Docket No. FAA-2005-21470; Directorate Identifier 2003-NM-45-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the street address stated in the ADDRESSES section. Comments will be available in the AD docket shortly after the Docket Management System receives them.

Discussion

We proposed to amend 14 CFR part 39 with a notice of proposed rulemaking (NPRM) for an AD (the “original NPRM”) for certain McDonnell Douglas Model DC-10-10, DC-10-10F, DC-10-15, DC-10-30 and DC-10-30F (KC-10A and KDC-10) airplanes; Model DC-10-40 and DC-10-40F airplanes; and Model MD-11 and MD-11F airplanes. The original NPRM was published in the Federal Register on June 16, 2005 (70 FR 35049). The original NPRM proposed to require, for certain airplanes, modifying the thrust reverser command wiring of the number 2 engine. For certain other airplanes, the original NPRM proposed to require modifying the thrust reverser system wiring from the flight compartment to engines 1, 2, and 3 thrust reversers. The original NPRM also proposed to require installing thrust reverser locking systems on certain airplanes.

Relevant Service Information

Since we issued the original NPRM, Boeing has issued Boeing Alert Service Bulletin MD11-78A007, Revision 4, dated February 22, 2007 (Boeing Service Bulletin MD11-78-007, Revision 02, dated August 22, 2001, was referred to as the appropriate source of service information for modifying the thrust reverser system wiring from the flight compartment to engines 1, 2, and 3 thrust reversers in the original NPRM for Model MD-11 and -11F airplanes). Revision 4 of the alert service bulletin requires additional work (wire changes in the wing root and empennage with metallic lightning overbraid and separation of thrust reverser wiring in the empennage) if the modification was done in accordance with an earlier issue of the service bulletin. The modification includes revising and routing the wiring, verifying the proper configuration code, revising the wiring if required, and doing a test of the thrust reverser system. We have revised paragraphs (c)(3) and (g) of this supplemental NPRM to refer to Boeing Alert Service Bulletin MD11-78A007, Revision 4, dated February 22, 2007.

We have also reviewed McDonnell Douglas Service Bulletin DC10-78-060, Revision 01, dated June 30, 2003 (McDonnell Douglas Service Bulletin DC10-78-060, dated December 17, 1999, was referred to as a concurrent requirement in the original NPRM as required by AD 2001-17-19). We approved Revision 01 of the service bulletin as an alternative method of compliance (AMOC) for the corresponding action in AD 2001-17-19. We have added Revision 01 of the service bulletin to Table 2 of this supplemental NPRM.

Comments

We have considered the following comments on the original NPRM.

Support for the Original NPRM

The Air Line Pilots Association supports the original NPRM.

Request To Remove Requirement

Lufthansa Technik suggests that we avoid the installation of thrust reverser locking systems with low reliability rates like those of the Model 747-400 airplanes, which require inspection every 1,000 flight hours. Lufthansa states that installed systems should not increase the maintenance burden with short interval inspections. We infer that the commenter requests that we remove the requirement to install thrust reverser locking systems on certain airplanes.

We disagree with the request to remove the requirement to install thrust reverser locking systems on certain airplanes specified in this supplemental NPRM. The commenter refers to repetitive inspections for Model 747-400 series airplanes, and those airplanes are not part of the applicability of this supplemental NPRM. However, operators should note that repetitive inspections are sometimes required if a terminating action is not available. Even though there are some reliability issues with certain locking systems, the locks still function to prevent an in-flight reverse event. We are not aware of any reliability issues with the locking systems on airplanes affected by this supplemental NPRM. We have not changed this supplemental NPRM in this regard.

Request To Withdraw Original NPRM

Northwest Airlines (NWA) states that it is not convinced the accomplishment of the modification specified in the original NPRM should be mandated. We infer that NWA requests that we withdraw the original NPRM. NWA states that the FAA has not demonstrated that the reduced controllability from the deployment of a number 2 thrust reverser in flight would represent a condition that would prevent continued safe flight and landing. NWA states that ADs 2001-05-10 and 2001-17-19 require operators to install interlocks on the wing engines and modify control and indication wiring. NWA concludes that these wing thrust reverser modifications have reduced the probability of an unsafe condition of the airplane to an acceptable level.

We do not agree to withdraw the original NPRM. A safety flight analysis was conducted by the manufacturer, and it has been determined that, in a certain part of the flight envelope, an uncommanded deployment of the reverser on the number 2 engine could result in reduced controllability of the airplane. In the analysis, the separation of the wiring in the number 2 engine will increase this margin to an acceptable level of safety. We have determined that an unsafe condition exists and that the separation of the wiring must be done to ensure continued safety. We have not revised this supplemental NPRM in this regard.

Request To Remove Requirements or Supersede Existing ADs

FedEx requests that we either remove the reference to concurrent requirements or supersede the related ADs. FedEx states that concurrent McDonnell Douglas Alert Service Bulletin DC10-78A057, Revision 01, dated February 18, 1999, is already mandated by AD 2001-05-10, and McDonnell Douglas Service Bulletin DC10-78-060, dated December 17, 1999, is already mandated by AD 2001-17-19. FedEx concludes that these two service bulletins are not necessary in the original NPRM and would result in redundant compliance tracking unless the original NPRM supersedes the related ADs.

We acknowledge that additional compliance tracking might be necessary for affected operators. However, due to the complexity of the actions specified in both of those ADs and this supplemental NPRM, we do not agree to supersede ADs 2001-05-10 and 2001-17-19. We also do not agree to remove McDonnell Douglas Alert Service Bulletin DC10-78A057 and McDonnell Douglas Service Bulletin DC10-78-060 from the concurrent actions specified in this supplemental NPRM. Although operators might have already done these service bulletins in accordance with ADs 2001-05-10 and 2001-17-19, operators that bring an airplane onto the U.S. registry must be aware that these service bulletins are prior or concurrent requirements to the actions specified in this supplemental NPRM.

Request To Delay Releasing an AD

FedEx requests that we delay releasing an AD that requires the actions specified in the original NPRM until after Rohr SB MD-11 54-201 is available (Rohr Service Bulletin MD-11 54-201, dated November 30, 1999, was referred to as a concurrent service bulletin in Table 3 of the original NPRM). FedEx states that, according to Goodrich, Revision 1 of the service bulletin is in draft form and that neither Revision 1 nor the original issue has been issued or released to operators. FedEx states that all pertinent service bulletins should be available to operators for review.

We acknowledge that the original issue of the service bulletin was not readily available to operators. Since the original NPRM was issued, we have reviewed Rohr Service Bulletin MD-11 54-201, Revision 2, dated December 12, 2005. The service bulletin specifies the same procedures as the original to modify pylon thrust reverser harnesses and the J-box. We have revised Table 3 of the supplemental NPRM to refer to Revision 2. We have also added Rohr Service Bulletin MD-11 54-201, dated November 30, 1999, and Rohr Service Bulletin MD-11 54-201, Revision 1, dated November 23, 2005, to paragraph (k) of the supplemental NPRM in order to give credit for actions done in accordance with these service bulletins for the corresponding requirements of Table 3 of this supplemental NPRM.

Request To Revise Cost Estimate

FedEx requests that we revise the cost estimate for the original NPRM. FedEx states that it will need 244 work hours per MD-11 airplane, with parts costing over $18,750, for a total cost per airplane of over $34,600 for the wiring modification. The commenter notes that this estimate reflects concurrent requirements and material costs not adjusted for inflation and that this estimate does not include taxes, contingency fees, consumable materials or the cost of delays and lost airlift that will be incurred by operators. The commenter notes that increased revenue is lost if an airplane must be removed from revenue service on an off-schedule basis and that the additional 250 to 300 work hours must be scheduled into scheduled maintenance. The commenter concludes that the cost of compliance will be higher than the figures published.

We agree that a cost per MD-11 airplane of $34,600 is a good estimate and it corresponds with our estimate in the cost of compliance section of this supplemental NPRM for MD-11 airplanes of up to $17,672 for the main modification and $19,675 for applicable concurrent actions for a total of up to $37,374 per airplane.

We do not agree to revise the cost estimate to include other incidental costs, such as delays due to scheduling. Where safety considerations allow, we attempt to set compliance times that generally coincide with operators' maintenance schedules. However, because operators' schedules vary substantially, we cannot accommodate every operator's optimal scheduling in each AD. Each AD does allow individual operators to request approval for extensions of compliance times, based on a showing that the extension will not affect safety adversely as specified in the provisions of paragraph (l) of this AD. Therefore, we do not consider it appropriate to attribute to the AD the costs associated with the type of special scheduling that might otherwise be required. We have not changed this supplemental NPRM in this regard.

Request That We Ensure Adequate Parts

FedEx requests that we ensure that relevant equipment manufacturers have an initial stock of materials available that will support U.S. operators and prevent any undue delays in completing all fleet modifications. FedEx states that the initial supply and replenishment of parts and materials affect scheduling and ground time needed to complete the modifications.

We acknowledge that parts availability affects scheduling and ground time needed to complete the modifications. We contacted Boeing about parts availability in regard to this supplemental NPRM, and have confirmed that a sufficient quantity of parts is available. We have not changed this supplemental NPRM in this regard.

Clarification of AMOC Paragraph

We have revised this action to clarify the appropriate procedure for notifying the principal inspector before using any approved AMOC on any airplane to which the AMOC applies.

Explanation of Change to Costs of Compliance

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

FAA's Determination and Proposed Requirements of the Supplemental NPRM

Certain changes discussed above expand the scope of the original NPRM; therefore, we have determined that it is necessary to reopen the comment period to provide additional opportunity for public comment on this supplemental NPRM.

Costs of Compliance

There are about 612 airplanes of the affected designs in the worldwide fleet. This proposed AD would affect about 245 airplanes of U.S. registry. The following tables provide the estimated costs for U.S. operators to comply with this proposed AD, for the applicable actions, at an average hourly labor rate of $80.

Cost for Wiring Modification/Thrust Reverser Locking System Installation
Action | Work hours | Parts | Cost per airplane | Number of U.S.- registered airplanes | Fleet cost
Modify wiring (Model DC-10-10, DC-10-10F, DC-10-15, DC-10-30 and DC-10-30F (KC-10A and KDC-10) airplanes) | 34 | $1,562 | $4,282 | 40 | $171,280.
Modify wiring (Model DC-10-40 and DC-10-40F airplanes) | 34 | $5,238 | $7,958 | 45 | $358,110.
Modify wiring (Model MD-11 and -11F airplanes) | Between 124 and 192 | Between $11,912 and $17,672 | Between $21,832 and $33,032 | 160 | Between $3,493,120 and $5,285,120.
Install thrust reverser locking system (Model DC-10-40 and DC-10-40F airplanes) | 218 | Between $165,535 and $207,792 | Between $182,975 and $225,232 | 45 | Between $8,233,875 and $10,135,440.

Cost of Concurrent Actions for Model MD-11 and MD-11F Airplanes
Action | Work hours | Parts | Cost per airplane | Number of U.S. registered airplanes | Fleet cost
Update program software, as applicable | 2 | None | $160 | Up to 160 | Up to $25,600.
Modify wing pylon harnesses, as applicable | 100 | $5,268 | $13,268 | Up to 160 | Up to $2,122,880.
Modify pylon thrust reverser harnesses and J-box, as applicable | Between 82 and 192 | Between $10,472 and $15,999 | Between $17,032 and $31,359 | Up to 160 | Up to $5,017,440.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2005-21470; Directorate Identifier 2003-NM-45-AD.

Comments Due Date

(a) The FAA must receive comments on this AD action by August 17, 2007.

Affected ADs

(b) None.

Applicability

(c) This AD applies to airplanes, certificated in any category, as listed in Table 1 of this AD.

Table 1.—Applicability
McDonnell Douglas airplane— | As identified in—
(1) Model DC-10-10, DC-10-10F, DC-10-15, DC-10-30 and DC-10-30F (KC-10A and KDC-10) airplanes | Boeing Service Bulletin DC10-78-066, Revision 01, dated November 30, 2001.
(2) Model DC-10-40 and DC-10-40F airplanes | Boeing Service Bulletin DC10-78-067, dated October 30, 2002.
(3) Model MD-11 and MD-11F airplanes | Boeing Alert Service Bulletin MD11-78A007, Revision 4, dated February 22, 2007.

Unsafe Condition

(d) This AD was prompted by a determination that the thrust reverser systems on these McDonnell Douglas airplanes do not adequately preclude unwanted deployment of a thrust reverser. We are issuing this AD to prevent an unwanted deployment of a thrust reverser during flight, which could result in reduced controllability of the airplane.

Compliance

(e) You are responsible for having the actions required by this AD performed within the compliance times specified, unless the actions have already been done.

Wiring Modification

(f) For Model DC-10-10, DC-10-10F, DC-10-15, DC-10-30, and DC-10-30F (KC-10A and KDC-10) airplanes: Within 60 months after the effective date of this AD, modify the thrust reverser command wiring of the number 2 engine by doing all the actions specified in the Accomplishment Instructions of Boeing Service Bulletin DC10-78-066, Revision 01, dated November 30, 2001.

(g) For Model MD-11 and MD-11F airplanes: Within 60 months after the effective date of this AD, modify the thrust reverser system wiring from the flight compartment to engines 1, 2, and 3 thrust reversers by doing all the actions specified in the Accomplishment Instructions of Boeing Alert Service Bulletin MD11-78A007, Revision 4, dated February 22, 2007.

Wiring Modification/Installation of Thrust Reverser Locking System

(h) For Model DC-10-40 and DC-10-40F airplanes: Within 60 months after the effective date of this AD, modify the thrust reverser command wiring of the number 2 engine by doing all the actions specified in the Accomplishment Instructions of Boeing Service Bulletin DC10-78-067, dated October 30, 2002, and install thrust reverser locking systems by doing all the applicable actions specified in the Accomplishment Instructions of McDonnell Douglas Service Bulletin DC10-78-064, dated June 24, 2003.

Prior or Concurrent Actions

(i) For Model DC-10-10, DC-10-10F, DC-10-15, DC-10-30, and DC-10-30F (KC-10A and KDC-10) airplanes: Prior to or concurrently with the actions required by paragraph (f) of this AD, do the actions specified in Table 2 of this AD.

Table 2.—Prior or Concurrent Actions for Model DC-10-10, DC-10-10F, DC-10-15, DC-10-30, and DC-10-30F (KC-10A and KDC-10), Airplanes
Do— | Required by— | In accordance with—
Repetitive detailed visual inspections, functional checks, and torque checks of the thrust reverser systems, and applicable corrective actions | Paragraphs (c) and (i) of AD 2001-05-10, amendment 39-12147 | McDonnell Douglas Alert Service Bulletin DC10-78A057, Revision 01, dated February 18, 1999.
A modification of the indication light system for the thrust reversers | Paragraph (a) of AD 2001-17-19, amendment 39-12410 | McDonnell Douglas Service Bulletin DC10-78-060, dated December 17, 1999; or McDonnell Douglas Service Bulletin DC10-78-060, Revision 01, dated June 30, 2003.

(j) For Model MD-11 and MD-11F airplanes: Prior to or concurrently with the actions required by paragraph (g) of this AD, do the actions specified in Table 3 of this AD.

Table 3.—Prior or Concurrent Actions for Model MD-11 and MD-11F Airplanes
Do— | In accordance with—
An update of the program software of display electronic units | McDonnell Douglas Service Bulletin MD11-31-091, dated November 5, 1998.
A modification of the wing pylon harnesses | Rohr Service Bulletin MD-11 54-200, Revision 1, dated May 14, 2001.
A modification of the pylon thrust reverser harnesses and J-box | Rohr Service Bulletin MD-11 54-201, Revision 2, dated December 12, 2005.

Actions Accomplished According to Previous Issues of Service Bulletins

(k) Actions accomplished before the effective date of this AD according to Boeing Service Bulletin DC10-78-066, dated March 6, 2001; Rohr Service Bulletin MD-11 54-201, dated November 30, 1999; or Rohr Service Bulletin MD-11 54-201, Revision 1, dated November 23, 2005; are considered acceptable for compliance with the applicable corresponding actions specified in this AD.

Alternative Methods of Compliance (AMOCs)

(l)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on July 11, 2007.
Stephen P. Boyd,
Acting Manager, Transport Airplane Directorate, Aircraft Certification Service.

[FR Doc. E7-14042 Filed 7-20-07; 8:45 am]

BILLING CODE 4910-13-P